DEPARTMENT OF HEALTH AND HUMAN SERVICES

Food and Drug Administration

Statement of Organization, Functions, and Delegations of Authority; Correction

AGENCY: Office of Regulatory Affairs, Food and Drug Administration, Department of Health and Human Services.

ACTION: Notice; correction.

SUMMARY: The Food and Drug Administration (FDA) is correcting a notice entitled “Statement of Organization, Functions, and Delegations of Authority” that appeared in the Federal Register of September 28, 2022. The document announced the publication of a reorganization of the Office of Regulatory Affairs (ORA) headquarters and field offices. This Federal Register notice (FRN) contained editorial errors. The FRN did not accurately list ORA's new organization. The corrections depict the proper organizational components within ORA.

FOR FURTHER INFORMATION CONTACT: Glenda Barfell, Associate Commissioner for Regulatory Management Operations, Office of Regulatory Management Operations, Office of Regulatory Affairs, Food and Drug Administration, Element Building, Rm. 2002, 12420 Parklawn Dr., Rockville, MD 20857, 240-402-7562.

SUPPLEMENTARY INFORMATION: In the Federal Register of Wednesday, September 28, 2022 (87 FR 58807), appearing on pages 58807 through 58810 in FR Doc. 2022-20996, the following corrections are made:

1. On page 58807, in the second column, “Data Analytics and Program Evaluation Staff (DCIA1)” is corrected to read “Data Analytics and Program Evaluation Staff (DCIA2).”

2. On page 58807, in the second column, “Division of Facilities and Property Management (DCIBBBB)” is corrected to read “Division of Facilities and Property Management (DCIBBB).”

3. On page 58807, in the second column, “Laboratory Support Branch (DCIBBBB1)” is corrected to read “Laboratory Support Branch (DCIBBB1).”

4. On page 58807, in the third column, “Medical Products Travel Branch (DCIBBD2)” is corrected to read “Medical Products Foreign Travel Branch (DCIBBD2).”

5. On page 58807, in the third column, “Human and Animal Food Travel Branch (DCIBBD3)” is corrected to read “Human and Animal Food Foreign Travel Branch (DCIBBD3).”

6. On page 58808, in the first column, “Project Management Branch 1 (DCIDB1)” is corrected to read “Project Management Branch 1 (DCIDB2).”

7. On page 58808, in the first column, “Project Management Branch 2 (DCIDB2)” is corrected to read “Project Management Branch 2 (DCIDB3).”

8. On page 58808, in the first column, “Foreign Human and Animal Food Inspections Branch 1 (DCIEBA)” is corrected to read “Foreign Human and Animal Food Inspections Branch 1 (DCIEBA1).”

9. On page 58808, in the second column, “Human and Animal Food Investigations Branch 2 (DCIECF2)” is corrected to read “Human and Animal Food Compliance Branch (DCIECF2).”

10. On page 58808, in the second column, “Human and Animal Food Compliance Branch (DCIECF3)” is corrected to read “Human and Animal Food Investigations Branch 2 (DCIECF3).”

11. On page 58808, in the third column, “Chemistry Branch (DCIFCD1)” is corrected to read “Chemistry Branch (DCIFCD2).”

12. On page 58808, in the third column, “Microbiological Sciences Branch (DCIFCD2)” is corrected to read “Microbiological Sciences Branch (DCIFCD3).”

13. On page 58809, in the first column, “Bioresearch Monitoring Operations Staff (DCIGA1)” is corrected to read “Operations Staff (DCIGA1).”

14. On page 58809, in the first column, “Operations Staff (DCIGA2)” is corrected to read “Bioresearch Monitoring Dedicated Foreign Cadre Staff (DCIGA2).”

15. On page 58809, in the first column, “Bioresearch Monitoring Dedicated Foreign Cadre Staff (DCIGA3)” is removed.

16. On page 58809, in the second column, “Division of Information Disclosure Policy (DCIHBD)” is corrected to read “Division of Information Disclosure (DCIHBD).”

17. On page 58809, in the third column, “Disclosure Policy Branch (DCIHBD3)” is corrected to read “Disclosure Branch (DCIHBD3).”

18. On page 58809, in the third column, “Produce Branch (DCIHBBD4)” is corrected to read “Produce Branch (DCIHBA3).”

19. On page 58809, in the third column, “Imports Policy Branch (DCIHEA3)” and “Division of Planning and Evaluation (DCIHEB)” are removed.

20. On page 58809, in the third column, “Division of Enforcement (DCIHEC)” is corrected to read “Division of Compliance and Enforcement (DCIHEC).”

21. On page 58809, in the third column, “Recall Operations Branch (DCIHEC1)” is corrected to read “Recalls Branch (DCIHEC1).”

22. On page 58809, in the third column, “Northern Boarder Import Investigations Branch I (DCIIH1)” is corrected to read “Northern Border Import Investigations Branch I (DCIIH1).”

23. On page 58809, in the third column, “Northern Boarder Import Investigations Branch II (DCIIH2)” is corrected to read “Northern Border Import Investigations Branch II (DCIIH2).”

24. On page 58809, in the third column, “Northern Boarder Import Compliance Branch (DCIIH3)” is corrected to read “Northern Border Import Compliance Branch (DCIIH3).”

25. On page 58809, in the third column, “Office of Information Systems Management (DCIJ)” is corrected to read “Office of Information Systems Management (DCIK).”

26. On page 58809, in the third column, “Division of Enforcement Systems Solutions (DCIJA)” is corrected to read “Division of Enforcement Systems Solutions (DCIKA).”

27. On page 58809, in the third column, “Enforcement Systems Branch (DCIJA1)” is corrected to read “Enforcement Systems Branch (DCIKA1).”

28. On page 58810, in the first column, “Enforcement Data Management Branch (DCIJA2)” is corrected to read “Enforcement Data Management Branch (DCIKA2).”

29. On page 58810, in the first column, “Division of Import Systems Solutions (DCIJB)” is corrected to read “Division of Import Systems Solutions (DCIKB).”

30. On page 58810, in the first column, “Import Systems Branch (DCIJB1)” is corrected to read “Import Systems Branch (DCIKB1).”

31. On page 58810, in the first column, “Import Data Management Branch (DCIJB2)” is corrected to read “Import Data Management Branch (DCIKB2).”

32. On page 58810, in the first column, “Division of Information Technology Planning and Management Services (DCIJC)” is corrected to read “Division of Information Technology Planning and Management Services (DCIKC).”

33. On page 58810, in the first column, “Solutions Planning Branch (DCIJC1)” is corrected to read “Solutions Planning Branch (DCIKC1).”

34. On page 58810, in the first column, “Information Technology Management and Governance Services Branch (DCIJC2)” is corrected to read “Information Technology Management and Governance Services Branch (DCIKC2).”

Elizabeth J. Gramling,
Executive Secretary to the Department, Department of Health and Human Services.

[FR Doc. 2022-25409 Filed 11-21-22; 8:45 am]

BILLING CODE P